DEPARTMENT OF THE INTERIOR

National Park Service

Concession Contracts and Permits: Expiring Contracts; Extension For up to One Year

AGENCY: National Park Service, Interior.

ACTION: Public notice.

SUMMARY: Pursuant to 36 CFR 51.23, public notice is hereby given that the National Park Service proposes to extend the following expiring concession contracts for a period of up to one year, or until such time as a new contract is executed, whichever occurs sooner.

SUPPLEMENTARY INFORMATION: All of the listed concession authorizations will expire by their terms on or before December 31, 2002. The National Park Service has determined that the proposed short-term extensions are necessary in order to avoid interruption of visitor services and has taken all reasonable and appropriate steps to consider alternatives to avoid such interruption. These extensions will allow the National Park Service to complete and issue prospectuses leading to the competitive selection of concessioners for new long-term concession contracts covering these operations.

Conc ID No. | Concessioner name | Park
DENA005-98 | Rainier Mountaineering, Inc | Denali National Park.
DENA006-98 | Mountain Trip, Inc | Denali National Park.
DENA008-98 | Alaska Mountaineering School | Denali National Park.
DENA009-98 | Alpine Ascents International | Denali National Park.
DENA010-98 | American Alpine Institute | Denali National Park.
DENA011-98 | NOLS | Denali National Park.
DENA013-98 | DNP Wilderness Centers | Denali National Park.
DENA015-98 | Kantishna Roadhouse | Denali National Park.
DENA016-98 | Denali National Park Backcountry Lodge | Denali National Park.
DENA022-97 | Alpine Air | Denali National Park.
DENA023-97 | Doug Geeting Aviation | Denali National Park.
DENA024-97 | Hudson Air Service | Denali National Park.
DENA025-97 | K2-Rustair | Denali National Park.
DENA027-98 | McKinley Air Service | Denali National Park.
DENA028-97 | Fly Denali National Park | Denali National Park.
DENA029-97 | Talkeetna Air Taxi | Denali National park.
DENA030-97 | Kantishna Air Taxi | Denali National park.
DENA018-98 | EarthSong Lodge Dog Sled Adv | Denali National Park.
DENA021-98 | Denali National Park West Lodge | Denali National Park.
DENA001-81 | ARAMARK | Denali National Park.
ARO001-98 | Alaska Natural History Assn | AK Parks.
GLBA008-98 | Alaska Discovery, Inc | Glacier Bay National Park and Preserve.
GLBA009-98 | Alaska Discovery, Inc | Glacier Bay National Park and Preserve.
GLBA010-98 | Gray, Gary C., Reg. Guide | Glacier Bay National Park and Preserve.
GLBA011-98 | Chilkat Guides | Glacier Bay National Park and Preserve.
GLBA012-98 | Colorado River/Trail Exp., Inc | Glacier Bay National Park and Preserve.
GLBA013-98 | James Henry River Journeys | Glacier Bay National Park and Preserve.
GLBA014-98 | Mountain Travel/Sobek | Glacier Bay National Park and Preserve.
GLBA017-98 | Wilderness River Outfitters | Glacier Bay National Park and Preserve.
GLBA015-98 | Chicagaof Charters | Glacier Bay National Park and Preserve.
GLBA016-98 | Grand Pacific Charters | Glacier Bay National Park and Preserve.
GLBA018-98 | Glacier Guides | Glacier Bay National Park and Preserve.
GLBA019-98 | Marine Adventure Sailing Tours | Glacier Bay National Park and Preserve.
GLBA025-98 | Princeton Hall Ltd | Glacier Bay National Park and Preserve.
GLBA026-98 | Lisianski Charters | Glacier Bay National Park and Preserve.
GLBA027-98 | Gustavus Marine Charters | Glacier Bay National Park and Preserve.
GLBA028-98 | Elfin Cove Sportfishing Lodge | Glacier Bay National Park and Preserve.
GLBA021-98 | Seawind Charters | Glacier Bay National Park and Preserve.
GLBA030-98 | Dolphin Charters | Glacier Bay National Park and Preserve.
GLBA031-98 | Glacier Bay National Park and Preserve Country Inn | Glacier Bay National Park and Preserve.
GLBA032-98 | Sea Wolf Wilderness Adventures | Glacier Bay National Park and Preserve.
GLBA020-98 | Northern Lights Haven | Glacier Bay National Park and Preserve.
GLBA029-98 | Johnny's East River Lodge | Glacier Bay National Park and Preserve.
GLBA033-98 | Gray, Gary C., Reg. Guide | Glacier Bay National Park and Preserve.
GLBA035-98 | Glacier Bay National Park and Preserve Sea Kayaks | Glacier Bay National Park and Preserve.
GLBA037-98 | New World Ship Management | Glacier Bay National Park and Preserve.
GLBA038-98 | Lindblad Expeditions, Inc | Glacier Bay National Park and Preserve.
GLBA039-99 | Alaska Sightseeing/Cruise West | Glacier Bay National Park and Preserve.
GLBA041-98 | Glacier Bay National Park and Preserve Park Concessions | Glacier Bay National Park and Preserve.
GLBA044-98 | Glacier Bay National Park and Preserve Adventures | Glacier Bay National Park and Preserve.
GLBA901-98 | Gray, Gary C., Reg. Guide | Glacier Bay National Park and Preserve.
GLBA902-98 | Latham, John H., Reg. Guide | Glacier Bay National Park and Preserve.
NOAT901-98 | Philip E. and Carol M. Driver | Noatak National Preserve.
NOAT906-98 | David Leonard | Noatak National Preserve.
NOAT904-98 | Jake & Patricia Jacobson | Noatak National Preserve.
KATM005-98 | Branch River Air Service | Katmai National Park.
KATM006-98 | Bristol Bay Sportfishing | Katmai National Park.
KATM002-98 | No See Um Lodge | Katmai National Park.
KATM007-98 | Mike Cusack's King Salmon Lodge | Katmai National Park.
KATM004-98 | Shaska Ventures | Katmai National Park.

EFFECTIVE DATE: January 2, 2003.

FOR FURTHER INFORMATION CONTACT: Cynthia Orlando, Concession Program Manager, National Park Service, Washington, DC, 20240, Telephone 202/513-7156.

Dated: October 24, 2002.
Richard G. Ring,
Associate Director, Administration, Business Practices and Workforce Development.

[FR Doc. 02-28514 Filed 11-7-02; 8:45 am]

BILLING CODE 4310-70-M